DEPARTMENT OF TRANSPORTATION

Federal Railroad Administration

[Docket Number FRA-2017-0119]

Petition for Waiver of Compliance

Under part 211 of Title 49 Code of Federal Regulations (CFR), this provides the public notice that on November 3, 2017, TEX Rail petitioned the Federal Railroad Administration (FRA) for a waiver of compliance from certain provisions of the Federal railroad safety regulations contained at 49 CFR part 236. FRA assigned the petition Docket Number FRA-2017-0119.

Specifically, TEX Rail seeks temporary relief from the requirements of 49 CFR 236.0(c)(2) which requires a compliant block signal system at locations where passenger trains will operate at a speed of 60 or more miles per hour, unless an FRA-approved PTC system is installed. TEX Rail faces schedule constraints which preclude the complete installation of this system prior to the receipt of its fleet of new Stadler FLIRT Diesel Multiple Units, (DMUs), which will be used to provide commuter rail service over this railroad. TEX Rail's CTC and I-ETMS systems will not be in service by February 2018, when TEX Rail contractually must begin pre-revenue service acceptance testing of its new DMU fleet.

Therefore, TEX Rail requests a waiver to perform pre-revenue service testing of its new fleet of FLIRT DMUs at a speed of 60 to 70 miles per hour (MAS) utilizing a 24.5-mile segment of track described in Appendix “A” to this petition. TEX Rail requests permission to perform testing under this waiver until the CTC and I-ETMS systems are functioning in compliance with FRA regulations.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 8, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-25364 Filed 11-22-17; 8:45 am]

BILLING CODE 4910-06-P